DEPARTMENT OF LABOR

Bureau of Labor Statistics

Federal Economic Statistics Advisory Committee; Notice of Open Meeting and Agenda

The ninth meeting of the Federal Economic Statistics Advisory Committee will be held on December 9, 2005 in the Postal Square Building, 2 Massachusetts Avenue, NE., Washington, DC.

The Federal Economic Statistics Advisory Committee is a technical committee composed of economists, statisticians, and behavioral scientists who are recognized for their attainments and objectivity in their respective fields. Committee members are called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1 and 2 of the Postal Square Building Conference Center. The schedule and agenda for the meeting are as follows:

9 a.m. Opening session.

9:30 a.m. Measuring the cost of owner-occupied housing.

1 p.m. Report from working group on the CPS-CES discrepancy.

1:30 p.m. Service-sector expansion and non-residential construction initiative in the PPI.

2 p.m. Priorities for future meetings.

2:45 p.m. Treatment of catastrophic events in Federal statistical programs.

4:45 p.m. Conclude (approximate time).

The meeting is open to the public. Any questions concerning the meeting should be directed to Margaret Johnson, Federal Economic Statistics Advisory Committee, on Area Code (202) 691-5600. Individuals with disabilities, who need special accommodations, should contact Ms. Johnson at least two days prior to the meeting date.

Signed at Washington, DC the 3rd day of November 2005.
Kathleen P. Utgoff,
Commissioner of Labor Statistics.

[FR Doc. 05-22447 Filed 11-9-05; 8:45 am]

BILLING CODE 4510-24-P